FEDERAL COMMUNICATIONS COMMISSION

47 CFR Part 15

[ET Docket No. 04-37; ET Docket No. 03-104; FCC 04-245]

Broadband Power Line Systems

AGENCY: Federal Communications Commission.

ACTION: Final rule; announcement of effective date.

SUMMARY: The Commission adopted new requirements and measurement guidelines for a new type of carrier current system that provides access to broadband services using electric utility companies over power lines. Certain rules contained new information collection requirements and were published in the Federal Register on January 7, 2005. This document announces the effective date of these published rules.

DATES: The amendments to §§ 15.615(a) through (e) published at 70 FR 1360, January 7, 2005, became effective on July 22, 2005.

FOR FURTHER INFORMATION CONTACT: Nancy J. Brooks, Office of Engineering and Technology, Policy and Rules Division, (202) 418-2454.

SUPPLEMENTARY INFORMATION: On July 22, 2005, the Office of Management and Budget (OMB) approved the information collection requirements contained in Sections 15.615(a) through (e) pursuant to OMB Control No. 3060-1087. Accordingly, the information collection requirements contained in these rules became effective on February 7, 2005.

List of Subjects in 47 CFR Part 15

Communications equipment, Radio.

Federal Communications Commission.
Marlene H. Dortch,
Secretary.

[FR Doc. 05-19515 Filed 9-28-05; 8:45 am]

BILLING CODE 6712-01-P